Proclamation 10968 of August 28, 2025

Labor Day, 2025

By the President of the United States of America

A Proclamation

From the earliest days of our American story, our Nation's future has been molded by the skill, determination, and unwavering resilience of the American worker. From the earliest settlers, who laid the foundations of a new Nation to the innovators who built our railroads, steel mills, and skyscrapers, America's greatness has always rested in the strength of its workforce. This Labor Day, we honor the proud legacy of America's workforce—and we pay tribute to the unbreakable spirit that keeps it strong nearly 250 years later.

The American worker is the beating heart of our economy, the foundation of our strength, and the living embodiment of the American Dream. In every honest citizen lives the instinct to work, build, and create—an instinct seen in the welder, the nurse, the trucker, the farmer, and the machinist. Every job, every shift, every hour worked by millions of talented patriots today adds another stone to the foundation of our prosperity.

Tragically, in recent decades, a corrupt political class allowed our manufacturing base to decline. Our jobs were shipped to distant shores, our industries decimated, and our communities weakened, all while building up foreign competitors at the expense of American workers and families.

Those days ended on January 20, 2025. Every day, my Administration is restoring the dignity of labor and putting the American worker first. We are making it easier to buy American and hire American, breathing new life into our manufacturing cities, and securing fair trade deals that protect our jobs and reward our productivity. We are amassing hundreds of billions of dollars in tariff revenue and ensuring that every product of American craftsmanship is appreciated for its true value in overseas markets. Under my leadership, we are bringing jobs back to America—and those jobs are going to American-born workers.

From our heartland to our great coastal cities, once-forgotten communities are stirring with new opportunity. Workers are keeping more of what they earn, and new jobs are being created at a record pace. As President, I will always defend the interests of every citizen who works with integrity, honors the rule of law, and strives to secure a brighter future for themselves, their families, and future generations of Americans.

This Labor Day, we renew our pledge to protect American jobs and defend the dignity of American labor—and we proudly acknowledge the vital role that our workers play in our past, present, and glorious American future.

NOW, THEREFORE, I, DONALD J. TRUMP, President of the United States of America, by virtue of the authority vested in me by the Constitution and the laws of the United States, do hereby proclaim September 1, 2025, as Labor Day. I call upon all public officials and people of the United States to observe this day with appropriate programs, ceremonies, and activities that honor the contributions and resilience of working Americans.

IN WITNESS WHEREOF, I have hereunto set my hand this twenty-eighth day of August, in the year of our Lord two thousand twenty-five, and of the Independence of the United States of America the two hundred and fiftieth.

[FR Doc. 2025-16923

Filed 9-2-25; 11:15 am]

Billing code 3395-F4-P